FEDERAL COMMUNICATIONS COMMISSION

47 CFR Part 73

[DA 05-1479; MB Docket No. 04-203, RM-10976]

Radio Broadcasting Services; McCook, Broken Bow, Maxwell, and McCook, Nebraska

AGENCY: Federal Communications Commission.

ACTION: Final rule.

SUMMARY: The Audio Division, at the request of McCook Radio Group, LLC, licensee of Station KRKU(FM), Channel 253C1, McCook, Nebraska, and Custer County Broadcasting, Inc., licensee of Station KBBN-FM, Broken Bow, Nebraska, deletes Channel 253C1 at McCook from the FM Table of Allotments, allots Channel 253C1 at Maxwell, Nebraska, as the community's first local FM service, and modifies the license of Station KRKU(FM) to specify operation on Channel 253C1 at Maxwell. Channel 253C1 can be allotted to Maxwell, Nebraska, in compliance with the Commission's minimum distance separation requirements at center city reference coordinates without site restriction. The coordinates for Channel 253C1 at Maxwell, Nebraska, are 41-04-44 North Latitude and 100-31-28 West Longitude. Also at the request of the joint petitioners, the Audio Division deletes Channel 252C3 at Broken Bow from the FM Table of Allotments, allots Channel 237C2 at Broken Bow, Nebraska, and modifies the license of Station KBBN-FM to specify operation on Channel 237C2 at Broken Bow. Channel 237C2 can be allotted to Broken Bow, Nebraska, in compliance with the Commission's minimum distance separation requirements at the existing reference coordinates for Station KBBN-FM, with a site restriction of 1.9 km (1.2 miles) east of Broken Bow. The coordinates for Channel 237C2 at Broken Bow, Nebraska, are 41-23-49 North Latitude and 99-37-02 West Longitude.

DATES: Effective July 11, 2005.

FOR FURTHER INFORMATION CONTACT: Deborah Dupont, Media Bureau, (202) 418-2180.

SUPPLEMENTARY INFORMATION: This is a synopsis of the Commission's Report and Order, MB Docket No. 04-203, adopted May 25, 2005, and released May 27, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Nebraska, is amended by removing Channel 252C3 and by adding Channel 237C2 at Broken Bow, by adding Maxwell, Channel 253C1 and by removing Channel 253C1 at McCook.

Federal Communications Commission.
John A. Karousos,
Assistant Chief, Audio Division, Media Bureau.

[FR Doc. 05-11376 Filed 6-7-05; 8:45 am]

BILLING CODE 6712-01-P